DEPARTMENT OF ENERGY

Federal Energy Regulatory Commission

[Docket No. RP02-234-000]

Discovery Gas Transmission LLC; Notice of Tariff Filing

May 2, 2002.

Take notice that on April 26, 2002, Discovery Gas Transmission LLC (Discovery) tendered for filing as part of its FERC Gas Tariff, Original Volume No. 1, the following revised tariff sheet to be effective July 1, 2001:

First Revised Sheet No. 153

Discovery asserts that the purpose of this filing is to comply with the Commission's order issued March 11, 2002, in Docket RM96-1-019.

Discovery states that this filing complies with the Commission's directives as set forth in Order 587-N to adopt standardized tariff language that provides releasing shippers the ability to recall scheduled and unscheduled capacity at the Timely and Evening Nomination Cycles, as well as the ability to recall unscheduled capacity at the Intra-Day 1 and Intra-Day 2 Nomination Cycles as set forth in the adopted tariff language.

Any person desiring to be heard or to protest said filing should file a motion to intervene or a protest with the Federal Energy Regulatory Commission, 888 First Street, NE., Washington, DC 20426, in accordance with sections 385.214 or 385.211 of the Commission's rules and regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11418 Filed 5-7-02; 8:45 am]

BILLING CODE 6717-01-P